DEPARTMENT OF AGRICULTURE

Forest Service

Ochoco National Forest, Paulina Ranger District; Oregon; Fox Canyon Cluster Allotment Management Plan Project EIS

AGENCY: Forest Service, USDA.

ACTION: Notice of intent to prepare an environmental impact statement.

SUMMARY: The Ochoco National Forest is preparing an environmental impact statement (EIS) to analyze the effects of changing grazing management in four allotments on the Paulina Ranger District. The Fox Canyon Cluster project area is located approximately 35 miles east of Prineville, south of Big Summit Prairie. The four allotments are Antler, Brush Creek, Fox Canyon, and Gray Prairie. The Proposed Action would reauthorize term grazing permits, construct rangeland improvements, manage livestock use and distribution, and conduct riparian restoration activities to facilitate the improvement of riparian conditions for streambank stability, riparian vegetation, and water temperature. These actions are needed to achieve and maintain consistency with the Ochoco National Forest Land and Resource Plan, as amended.

DATES: Scoping comments must be received by February 18, 2013. The draft environmental impact statement is expected to be completed and available for public comment in May, 2013. The final environmental impact statement is expected to be completed in September, 2013.

ADDRESSES: Send written comments to Sandra Henning, District Ranger, Paulina Ranger District, Ochoco National Forest, 3160 NE Third Street, Prineville, Oregon 97754. Alternately, electronic comments may be sent to comments-pacificnorthwest-ochoco@fs.fed.us. Electronic comments must be submitted as part of the actual email message, or as an attachment in plain text (.txt), Microsoft Word (.doc), rich text format (.rtf), or portable document format (.pdf).

FOR FURTHER INFORMATION CONTACT: Jeffrey Marszal, Project Leader, or Jacob Young, Range Specialist, at 3160 NE Third Street, Prineville, Oregon 97754, or at (541) 416-6500, or by email at jmarszal@fs.fed.us and jcyoung@fs.fed.us

SUPPLEMENTARY INFORMATION:

Purpose and Need for Action

The purpose of this proposal is to reauthorize livestock grazing consistent with the Ochoco National Forest Land and Resource Management Plan (Forest Plan), as amended, and other applicable legal requirements within the project area. Paulina Ranger District data indicates that throughout the project area, stream shade and bank stability do not meet Forest Plan standards. In addition, several streams in the project area are listed on Oregon DEQ's 303(d) list for water quality limited streams, due to high summer water temperatures. Livestock grazing is one of multiple factors that can contribute to low levels of shade, high summer water temperatures, and unstable stream banks. In these four grazing allotments, there is a need to facilitate the achievement of the following standards: forage utilization, stream shade, bank stability, and width-to-depth ratio.

Proposed Action

The proposed actions vary by allotment, and are specific to the resource situations within each allotment. The Proposed Action for all allotments includes reauthorizing grazing and reauthorizing existing rangeland improvements. The actual season for livestock use may be less than permitted in order to meet Forest Plan goals and objectives/desired conditions. The number of days livestock spend on each allotment may be adjusted annually based on variations in weather and range readiness or unpredictable events such as wildfire and drought. The actual season of use may also be adjusted annually based on variations in weather and range readiness. The dates listed in each allotment description are target dates for grazing. The season of use may occur sooner or later than indicated based on annual conditions. The length of grazing also depends on meeting utilization standards or thresholds (triggers) for pasture moves.

Allotment-specific proposals are as follows:

Antler Allotment

This allotment would continue to consist of 843 acres divided into eight pastures: One (172 ac.), Two A (61 ac.), Two B (74 ac.), Three (173 ac.), Four (52 ac.), Five (60 ac.), Six (82 ac.), and Seven (168 ac).The current permitted amount of 433 AUMs (Animal Unit Month) with 92 cow/calf pair from June 16 to September 30 would be reauthorized. Existing structural improvements would be reauthorized, including approximately 11 miles of fence. The grazing system would be an eight pasture deferred rotation with partial rest of pastures on a seasonal basis. Active management of livestock would be recommended, but due to the frequent rotation through the eight essentially riparian pastures the checking may not be as regular.

One Pasture

• Riparian restoration activities would take place on .5 miles of Jungle Creek; activities would include in-stream placement of wood and/or rock structures, planting hardwoods, and creating physical barriers (such as wood, rock or fences) to protect hardwoods and improve bank stability. Wood and physical barrier material may come from on-site

• Aspen stands would be enhanced and protected through conifer thinning and utilization of thinned materials, prescribed fire, and mechanical treatment in an approximately 1-acre stand. Exclosure may be used when thinning and placement of thinned materials to protect aspens stand is not found to provide adequate protection.

Seven Pasture

• Planting hardwoods, and creating physical barriers (such as wood, rock, or fences) to protect hardwoods and improve bank stability would take place on .75 miles of North Fork Crooked River.

Two A Pasture

• Planting hardwoods, and creating physical barriers (such as wood, rock, or fences) to protect hardwoods and improve bank stability would take place on .25 miles of North Fork Crooked River.

Brush Creek Allotment

This allotment would continue to consist of 4,378 acres divided into two pastures: Lower Pasture (3,513 ac.) and Middle Pasture (865 ac.). The current permitted amount of 455 AUMs would be reauthorized but the amount of head would be changed to 375 cow/calf pairs from May 1 to September 30. The total number of days of permitted use in this allotment is 27 days to equal the authorized AUMs. The “turn on” date may be adjusted annually based on range readiness indicators. The grazing system would be a modified nine pasture rest rotation; four pastures in Fox Canyon allotment, three pastures in Gray Prairie allotment, and two pastures in Brush Creek allotment. The modified nine pasture rest rotation would include yearly adaptations in duration and timing of grazing use in some pastures. This would include partial rest of one or more pastures a year and/or may include full rest of a pasture based on resource management objectives. Active management of livestock would be required.

The following actions were proposed, analyzed and authorized within the Big Summit Cluster Allotment Management Plans Final Environmental Impact Statement (Record of Decision, September 18, 2009), and would be carried forward in this Decision.

• Existing structural improvements would be reauthorized, including 3 water developments and approximately 10 miles of fence. One new water development is proposed.

• Modify existing pasture layout to create a riparian pasture on Jungle Creek (Jungle Creek Riparian Pasture).

○ Pasture would be about 449 acres and would require approximately 1.5 miles of new fence.

○ Rest for a minimum of 4 years and until upward trend is identified.

○ Riparian restoration on 1 mile of Jungle Creek would include in-stream placement of wood and/or rock structures, thinning small-diameter conifers in alder and willow stands, protecting hardwoods, and headcut repair.

• When grazing is reinitiated within the riparian pasture, the pasture would be grazed every other year, for a maximum of two weeks.

• Fix fence in lower Jungle Creek; protect aspen stand.

Lower Pasture

• Rebuild fence at upper part of pasture (west edge).

Middle Pasture

• Modify Lost Spring Reservoir: Repair/reconstruct exclosure fence and bury pipe to trough.

Fox Canyon Allotment

This allotment would continue to consist of 13,612 acres divided into four pastures: Fox Canyon (6,795 ac.), Long Prairie (2,844 ac.), Williams Prairie (3,281 ac.), and Williams Prairie Riparian Pasture (691 ac.).The current permitted amount of 1031 AUMs would be reauthorized but the amount of head would be changed to 375 cow/calf pairs from May 1 to September 30. The total number of days of permitted use in this allotment is 62 days to equal the authorized AUMs. The “turn on” date may be adjusted annually based on range readiness indicators. The grazing system would be a modified nine pasture rest rotation; four pastures in Fox Canyon allotment, three pastures in Gray Prairie allotment, and two pastures in Brush Creek allotment. The modified nine pasture rest rotation would include yearly adaptations in duration and timing of grazing use in some pastures. This would include partial rest of one or more pastures a year and/or may include full rest of a pasture based to resource management objectives. Existing structural improvements would be reauthorized, including 12 water developments and approximately 20 miles of fence. Five new water developments are proposed. Active management of livestock would be required.

Fox Canyon Pasture

• Construct four and reconstruct two water developments to improve livestock distribution.

• Construct exclosure with water-gaps on 1.4 miles of North Fork Fox Canyon Creek. The exclosure would include gates to allow for periodic grazing for vegetation management. Riparian restoration activities would take place within the newly constructed exclosure; activities would include head-cut repair, in-stream placement of wood and/or rock structures, planting hardwoods, and creating physical barriers (such as wood, rock or fences) to protect hardwoods and improve bank stability. Wood and physical barrier material may come from on-site.

• Reconstruct existing riparian exclosure on .5 miles of South Fork Fox Canyon Creek.

• In-stream placement of wood and/or rock structures would take place on 1.5 miles of South Fork Fox Canyon Creek. Wood and physical barrier material may come from on-site.

• Aspen stands would be protected and enhanced through conifer thinning and utilization of thinned materials, prescribed fire, and mechanical treatment in 3 stands, totaling 3 acres of treatment. Exclosures may be used when thinning and placement of thinned materials to protect aspens stands is not found to provide adequate protection.

Long Prairie Pasture

• Riparian restoration activities would take place on .75 miles of Long Prairie Creek; activities would include in-stream placement of wood and/or rock structures, planting hardwoods, and creating physical barriers (such as wood, rock or fences) to protect hardwoods and improve bank stability, conifer thinning to improve RHCA (Riparian Habitat Conservation Area) stand conditions and utilization of thinned materials for in-stream placement and improved bank stability. Wood and physical barrier material may come from on-site.

• Aspen stands would be protected and enhanced through conifer thinning and utilization of thinned materials, prescribed fire, and mechanical treatment in 2 stands, totaling 2 acres of treatment. Exclosures may be used when thinning and placement of thinned materials to protect aspens stands is not found to provide adequate protection.

• Hand-place wood around 3 fens to reduce cattle/wildlife trailing.

Williams Prairie Pasture

• Construct one and reconstruct two water developments to improve livestock distribution.

• Reconstruct riparian exclosure.

• Riparian restoration activities would take place on .5 miles of North Fork Crooked River up-stream of Sera Springs; activities would include in-stream placement of wood and/or rock structures, planting hardwoods, and creating physical barriers (such as wood, rock or fences) to protect hardwoods and improve bank stability. Wood and physical barrier material may come from on-site.

• Hand-place wood around two fens to reduce cattle/wildlife trailing.

• Prescribed burning would take place in Williams Prairie meadow with the objective of removing decadent vegetative material and stimulating growth.

Gray Prairie Allotment

This allotment would continue to consist of 11,630 acres divided into five pastures: East B (2,692 ac.), Gray Prairie (3,672 ac.), Holding (552 ac.), North (4,631 ac.), and Spring Creek (82 ac). The current permitted amount of 1,544 AUMs would be reauthorized but the amount of head would be changed to 375 cow/calf pairs from May 1 to September 30. The total number of days of permitted use in this allotment is 93 days to equal the authorized AUMs. The grazing system would be a modified nine pasture rest rotation; four pastures in Fox Canyon allotment, three pastures in Gray Prairie allotment, and two pastures in Brush Creek allotment. The modified nine pasture rest rotation will include yearly adaptations in duration and timing of grazing use in some pastures. This will include partial rest of one or more pastures a year and/or may include full rest of a pasture based to resource management objectives. Existing structural improvements would be reauthorized, including 13 water developments and approximately 21.5 miles of fence. Five new water developments are proposed. Two new cattle-guards would be installed between the North and Gray Prairie pastures. Active management of livestock would be required.

East B Pasture

• Reconstruct three water developments.

• Riparian restoration activities would take place on .75 miles of Spring Creek; activities would include in-stream placement of wood and/or rock structures, planting hardwoods, and creating physical barriers (such as wood, rock or fences) to protect hardwoods and improve bank stability. Wood and physical barrier material may come from on-site.

• Aspen stands would be enhanced and protected through conifer thinning and utilization of thinned materials, prescribed burning, and mechanical treatment in 4 stands, totaling 4 acres of treatment. Exclosures may be used when thinning and placement of thinned materials to protect aspens stands is not found to provide adequate protection.

Gray Prairie Pasture

• Construct two and reconstruct five water developments to improve livestock distribution.

• Riparian restoration activities would take place on 1 mile of lower Gray Creek; activities would include in-stream placement of wood and/or rock structures, planting hardwoods, and creating physical barriers (such as wood, rock or fences) to protect hardwoods and improve bank stability, conifer thinning to improve RHCA stand conditions and utilization of thinned materials for in-stream placement and improved bank stability. Wood and physical barrier material may come from on-site.

• Aspen stands would be enhanced and protected through conifer thinning and utilization of thinned materials, prescribed fire, and mechanical treatment in 2 stands, totaling 2 acres of treatment. Exclosures may be used when thinning and placement of thinned materials to protect aspens stands is not found to provide adequate protection.

• Hand-place wood around 2 fens to reduce cattle/wildlife trailing.

• Prescribed burning would take place in Gray Prairie meadow with the objective of removing decadent vegetative material and invigorating growth.

North Pasture

• Construct three and reconstruct three water developments to improve the distribution of livestock.

• Riparian restoration activities would take place on .3 miles of lower Lytle Creek and .5 miles of upper Lytle Creek; activities would include in-stream placement of wood and/or rock structures, planting hardwoods, and creating physical barriers (such as wood, rock or fences) to protect hardwoods and improve bank stability. Wood and physical barrier material may come from on-site.

• Aspen stands would be enhanced and protected through conifer thinning and utilization of thinned materials, prescribed fire, and mechanical treatment in 5 stands, totaling 5 acres of treatment. Exclosures may be used when thinning and placement of thinned materials to protect aspens stands is not found to provide adequate protection.

Possible Alternatives

In addition to the Proposed Action and any alternative that is developed following this scoping effort, the project interdisciplinary team will analyze the effects of:

• No Action alternative: No grazing permits would be reauthorized; cattle would be removed from all allotments within two years.

• Current management alternative: Permits would be reauthorized at current levels; there would be no new water developments, no riparian restoration, and there would be no requirement for permittees to move livestock out of sensitive areas, except as required by current permits.

Responsible Official

The responsible official will be Kate Klein, Forest Supervisor, Ochoco National Forest, 3160 NE Third Street, Prineville, Oregon 97754.

Nature of Decision To Be Made

Given the purpose and need, the deciding official will review the proposed action, the other alternatives, and the environmental consequences in order to make the following decisions:

• Whether and under what circumstances grazing will be reauthorized in the Fox Canyon Creek, Antler, Gray Prairie and Brush Creek Allotments.

• Whether and under what circumstances range improvements would be constructed.

• Whether and under what circumstances riparian restoration activities would be implemented.

Preliminary Issues

Preliminary issues identified include the potential effect to livestock grazing, heritage resources, fisheries, water quality, sensitive plants, the introduction and/or spread of invasive plants, and forage for big game species. In addition, the team will analyze the cumulative effects of this Proposed Action where it overlaps with the effects of other activities, including vegetation and fuels management.

Scoping Process

Public comments about this proposal are requested in order to assist in identifying issues, determining how to best manage the resources, and focusing the analysis. Comments received to this notice, including names and addresses of those who comments will be part of the public record for this proposed action. Comments submitted anonymously will be accepted and considered; however, anonymous comments will not provide the Agency with the ability to afford the respondent with subsequent environmental documents.

Dated: January 11, 2013.
Sandra Henning,
District Ranger.

[FR Doc. 2013-00890 Filed 1-16-13; 8:45 am]

BILLING CODE 3410-11-P